DEPARTMENT OF EDUCATION

[CFDA No. 84.310A]

Office of Innovation and Improvement; Parental Information and Resource Centers Program

AGENCY: Department of Education.

ACTION: Notice inviting applications for new awards for fiscal year (FY) 2003; Correction.

On June 3, 2003, we published in the Federal Register (68 FR 33332) a notice inviting applications for new awards under the Parental Information and Resource Centers (PIRC) program. In that notice, we announced that each “novice applicant” would receive a competitive preference of 10 points. Upon further reflection, in order to encourage the submission of applications from novice applicants and to ensure that only the highest quality applications are funded, the Secretary is amending this competitive preference. The Secretary will award 10 additional points only to those novice applicants that rank among the ten highest scoring of all novice applicants on the basis of the selection criteria and the other competitive preference for this competition. In other words, only the ten highest ranked novice applicants, rather than all novice applicants, will be awarded priority points under the novice applicant preference.

The Secretary also reminds all applicants that section 5563(b) of the Elementary and Secondary Education Act (ESEA), as amended, requires each PIRC grantee to meet several specific conditions. The Secretary strongly encourages all applicants to review each of these conditions carefully to ensure that their applications appropriately address these specific requirements. For example, each applicant must (a) use at least 30 percent of the funds received under the program each year to establish, expand, or operate Parents as Teachers programs, Home Instruction for Preschool Youngsters programs, or other early childhood parent education programs; (b) use at least 50 percent of the funds received under the program each year to serve areas with high concentrations of low-income families, in order to serve parents who are severely educationally or economically disadvantaged; and (c) establish a special advisory committee as described in section 5563(b)(2) of the ESEA.

Consistent with section 5562(b) of the ESEA, in awarding funds under this competition, the Secretary will ensure, to the extent practicable, that grants are distributed in all geographic regions of the United States.

FOR FURTHER INFORMATION CONTACT: Patricia Kilby-Robb, U.S. Department of Education, 400 Maryland Avenue, SW., room 3E209, FOB-6, Washington, DC 20202-6254. Telephone: (202) 205-4253 or via Internet: patricia.kilby-robb@ed.gov.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Individuals with disabilities may obtain a copy of the application package in an alternative format by contacting that person. However, the Department is not able to reproduce in an alternative format the standard forms included in the notice.

Electronic Access to This Document

You may view this document, as well as all other Department of Education documents published in the Federal Register, in text or Adobe Portable Document Format (PDF) on the Internet at the following site: http://www.ed.gov/legislation/FedRegister.

To use PDF, you must have the Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 7273 et seq.

Dated: July 3, 2003.
Nina S. Rees,
Deputy Under Secretary for Innovation and Improvement.

[FR Doc. 03-17359 Filed 7-8-03; 8:45 am]

BILLING CODE 4000-01-U